DEPARTMENT OF JUSTICE

Notice of Lodging of Proposed Consent Decree Under the Comprehensive Environmental Response, Compensation and Liability Act

On September 16, 2021, the Department of Justice lodged a proposed Consent Decree with the United States District Court for the District of New Jersey in the lawsuit entitled United States v. Wyeth Holdings LLC, Civil Action No. 21-cv-17075.

In this action brought pursuant to Sections 106, 107, and 113(g)(2) of the Comprehensive Environmental Response, Compensation, and Liability Act of 1980, 42 U.S.C. 9606, 9607 and 9613(g)(2) (“CERCLA”), the United States seeks injunctive relief requiring Wyeth Holdings LLC to abate the endangerment to the public health or welfare or the environment caused by the American Cyanamid Superfund Site (“Site), located in Bridgewater Township, New Jersey, including to perform the remedy selected in the United States Environmental Protection Agency's Record of Decision for Operable Unit 8 of the Site. This includes the excavation, dewatering, and off-site disposal of acid tar in Impoundments 1 and 2, as well as the construction of earthen berms, soil treatment, and capping of this area of the Site. The United States also seeks to recover costs incurred and to be incurred by the United States in response to releases or threatened releases of hazardous substances at or from the Site.

The publication of this notice opens a period for public comment on the Consent Decree. Comments should be addressed to the Assistant Attorney General, Environment and Natural Resources Division, and should refer to United States v. Wyeth Holdings LLC, D.J. Ref. No. 90-11-3-07250/3. All comments must be submitted no later than thirty (30) days after the publication date of this notice.

Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department website: https://www.justice.gov/enrd/consent-decrees. We will provide a paper copy of the Consent Decree upon written request and payment of reproduction costs. Please mail your request and payment to: Consent Decree Library, U.S. DOJ—ENRD, P.O. Box 7611, Washington, DC 20044-7611. Please enclose a check or money order for $10.25 for a copy of the Consent Decree without the appendices or for $16.00 for a copy of the Consent Decree with appendices (25 cents per page reproduction cost) payable to the United States Treasury.

Henry Friedman,
Assistant Section Chief, Environmental Enforcement Section, Environment and Natural Resources Division.

[FR Doc. 2021-20603 Filed 9-22-21; 8:45 am]

BILLING CODE 4410-15-P